DEPARTMENT OF TRANSPORTATION

Federal Aviation Administration

14 CFR Part 39

[Docket No. FAA-2024-1702; Project Identifier MCAI-2024-00067-T]

RIN 2120-AA64

Airworthiness Directives; Airbus SAS Airplanes

AGENCY: Federal Aviation Administration (FAA), DOT.

ACTION: Supplemental notice of proposed rulemaking (SNPRM).

SUMMARY: The FAA is revising a notice of proposed rulemaking (NPRM) to supersede Airworthiness Directive (AD) 2021-25-14, which applies to all Airbus SAS Model A319-111, -112, -113, -114, -115, -131, -132, and -133 airplanes; Model A320-211, -212, -214, -216, -231, -232, and -233 airplanes; and Model A321-111, -112, -131, -211, -212, -213, -231, and -232 airplanes. This action revises the NPRM by adding a prohibition against accomplishing a repair using certain structural repair manual (SRM) tasks. The FAA is proposing this AD to address the unsafe condition on these products. Since these actions would impose an additional burden over those in the NPRM, the FAA is requesting comments on this SNPRM.

DATES: The FAA must receive comments on this SNPRM by March 31, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-1702; or in person at Docket Operations between 9 a.m. and 5 p.m., Monday through Friday, except Federal holidays. The AD docket contains the NPRM, this SNPRM, the mandatory continuing airworthiness information (MCAI), any comments received, and other information. The street address for Docket Operations is listed above.

Material Incorporated by Reference:

• For European Union Aviation Safety Agency (EASA) material identified in this SNPRM, contact EASA, Konrad-Adenauer-Ufer 3, 50668 Cologne, Germany; telephone +49 221 8999 000; email ADs@easa.europa.eu; website easa.europa.eu. You may find this material on the EASA website at ad.easa.europa.eu. It is also available at regulations.gov under Docket No. FAA-2024-1702.

• You may view this material at the FAA, Airworthiness Products Section, Operational Safety Branch, 2200 South 216th St., Des Moines, WA. For information on the availability of this material at the FAA, call 206-231-3195.

FOR FURTHER INFORMATION CONTACT: Timothy Dowling, Aviation Safety Engineer, FAA, 2200 South 216th St., Des Moines, WA 98198; phone: 817-222-5102; email: Timothy.P.Dowling@faa.gov.

SUPPLEMENTARY INFORMATION:

Comments Invited

The FAA invites you to send any written relevant data, views, or arguments about this proposal. Send your comments to an address listed under the ADDRESSES section. Include “Docket No. FAA-2024-1702; Project Identifier MCAI-2024-00067-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this SNPRM.

Confidential Business Information

CBI is commercial or financial information that is both customarily and actually treated as private by its owner. Under the Freedom of Information Act (FOIA) (5 U.S.C. 552), CBI is exempt from public disclosure. If your comments responsive to this SNPRM contain commercial or financial information that is customarily treated as private, that you actually treat as private, and that is relevant or responsive to this SNPRM, it is important that you clearly designate the submitted comments as CBI. Please mark each page of your submission containing CBI as “PROPIN.” The FAA will treat such marked submissions as confidential under the FOIA, and they will not be placed in the public docket of this SNPRM. Submissions containing CBI should be sent to Timothy Dowling, Aviation Safety Engineer, FAA, 2200 South 216th St., Des Moines, WA 98198; phone: 817-222-5102; email: Timothy.P.Dowling@faa.gov. Any commentary that the FAA receives which is not specifically designated as CBI will be placed in the public docket for this rulemaking.

Background

The FAA issued an NPRM to amend 14 CFR part 39 by adding an AD to supersede AD 2021-25-14, Amendment 39-21858 (86 FR 72171, December 21, 2021) (AD 2021-25-14), that would apply to all Airbus SAS Model A319-111, -112, -113, -114, -115, -131, -132, -133, 151N, -153N, and -171N airplanes; Model A320-211, -212, -214, -216, -231, -232, -233, -251N, -252N, -253N, -271N, -272N, and -273N airplanes; and Model A321-211, -212, -213, -231, -232, -251N, -251NX, -252N, -252NX, -253N, -253NX, -271N, -271NX, -272N, and -272NX airplanes. The NPRM published in the Federal Register on July 3, 2024 (89 FR 55123). The NPRM was prompted by AD 2024-0027, dated January 25, 2024 (EASA AD 2024-0027), issued by EASA, which is the Technical Agent for the Member States of the European Union. EASA AD 2024-0027 stated new investigation results highlighted that inspections must be applied to all models of A319, A320 and A321 airplanes in an affected configuration, and the associated compliance time must be adapted to these configurations. It was determined that fatigue cracking may occur in affected areas on airplanes having Sharklets installed during production or in service. This condition, if not detected and corrected, could lead to crack initiation and propagation, possibly resulting in reduced structural integrity of the wings.

In the NPRM, the FAA proposed to continue to require the actions in AD 2021-25-14 and to require expanding the applicability to include new engine option (NEO) airplanes and accomplishment of the required actions within updated compliance times, as applicable to airplane configuration.

Actions Since the NPRM Was Issued

Since the FAA issued the NPRM, EASA superseded EASA AD 2024-0027 and issued EASA AD 2024-0230, dated December 2, 2024 (EASA AD 2024-0230) (also referred to as the MCAI), to correct an unsafe condition for all Airbus SAS Model A319-111, -112, -113, -114, -115, -131, -132, -133, -151N, -153N, and -171N airplanes; Model A320-211, -212, -214, -215, -216, -231, -232, -233, -251N, -252N, -253N, -271N, -272N, and -273N airplanes; and Model A321-211, -212, -213, -231, -232, -251N, -251NX, -252N, -252NX, -253N, -253NX, -271N, -271NX, -272N, and -272NX airplanes. Model A320-215 airplanes are not certificated by the FAA and are not included on the U.S. type certificate data sheet; this proposed AD therefore does not include those airplanes in the applicability. The MCAI states that since AD 2024-0027 was issued, it was identified that Airbus published certain SRM tasks at revision dated May 2024, removing instructions linked to steps 2 to 9 and aligning the compliance time with the EASA AD 2024-0027 for all the related SRM tasks. In addition, SRM tasks 57-21-11-300-010, 57-21-11-300-021 and 57-21-11-300-025 were deactivated at revision dated August 2023, and should no longer be used.

The FAA is proposing this AD to address the unsafe condition on these products.

You may examine the MCAI in the AD docket at regulations.gov under Docket No. FAA-2024-1702.

Comments

The FAA received a comment from Air Line Pilots Association, International (ALPA) who supported the NPRM without change.

The FAA received additional comments from Delta Air Lines (Delta). The following presents the comments received on the NPRM and the FAA's response to each comment.

Request To Add Exceptions

Delta requested the inclusion of an exception in paragraph (h) of the final rule to correct the meaning of “Steps 2 to 9” as stated in paragraph (5) of EASA AD 2024-0027. Delta stated the meaning of “Steps 2 to 9” in paragraph (5) is not readily evident due to a conflict between the note included in paragraph (5) of EASA AD 2024-0027 and later revisions of Airbus A319-A320-A321 SRM, which has had the bushing oversize step numbering deleted from the referenced SRM repair.

Delta also requested the inclusion of an exception paragraph in the final rule of allowing operators with A321-200 (CEO [current engine option]) aircraft and A321-200 (NEO ACF [advanced cabin flex]) aircraft, as defined in Appendix 1, Table 1 and Table 2 of EASA AD 2024-0027, to omit the requirements to accomplish certain post-repair inspections at the compliance times specified in paragraph (6) of EASA AD 2024-0027, rather than those in the SRM. Delta stated Airbus adjusted the thresholds and intervals for post-repair inspections to match the compliance times specified in paragraph (6) of EASA AD 2024-0027 in the recent SRM Revision 27, SRM Task 57-21-11-300-009.

Delta also requested the inclusion of an exception in paragraph (h) of the final rule to clarify and correct the meaning of “Step 1” in paragraph (7) of EASA AD 2024-0027. Delta stated that the meaning of “Step 1” is unclear due to a conflict between the note after paragraph (5) of EASA AD 2024-0027, and later revisions of the SRM, which have the bushing oversize step numbering deleted from the applicable figure.

The FAA disagrees with the request to add exceptions because EASA AD 2024-0230 supersedes EASA AD 2024-0027 and addresses Delta's concerns by clarifying the requirements that were specified in paragraphs (5), (6), and (7) of EASA AD 2024-0027. EASA AD 2024-0230 adds Note 1 to paragraph (5) of EASA AD 2024-0230 to clarify which SRMs included steps 2 to 9 for bushing installation. EASA AD 2024-0230 also clarifies the affected airplanes for paragraph (6) of EASA AD 2024-0230 and removes reference to “Step 1” from paragraph (7) of EASA AD 2024-0230. The FAA has not changed this AD in this regard.

Material Incorporated by Reference Under 1 CFR Part 51

EASA AD 2024-0230 specifies procedures for repetitive detailed inspections (DET) for cracks of the affected areas (left-hand and right-hand wing manhole access panel attachment holes in the bottom wing skin panels 2, between rib 13 and rib 23), and applicable corrective actions (i.e., repair). EASA AD 2024-0230 also prohibits accomplishing a repair using certain SRM tasks. This material is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI referenced above. The FAA is issuing this SNPRM after determining that the unsafe condition described previously is likely to exist or develop in other products of the same type design.

Certain changes described above expand the scope of the NPRM. As a result, it is necessary to reopen the comment period to provide additional opportunity for the public to comment on this SNPRM.

Proposed AD Requirements in This SNPRM

This proposed AD would require accomplishing the actions specified in EASA AD 2024-0230 described previously, except for any differences identified as exceptions in the regulatory text of this proposed AD.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2024-0230 by reference in the FAA final rule. This proposed AD would, therefore, require compliance with EASA AD 2024-0230 in its entirety through that incorporation, except for any differences identified as exceptions in the regulatory text of this proposed AD. Using common terms that are the same as the heading of a particular section in EASA AD 2024-0230 does not mean that operators need comply only with that section. For example, where the AD requirement refers to “all required actions and compliance times,” compliance with this AD requirement is not limited to the section titled “Required Action(s) and Compliance Time(s)” in EASA AD 2024-0230. Material required by EASA AD 2024-0230 for compliance will be available at regulations.gov under Docket No. FAA-2024-1702 after the FAA final rule is published.

Costs of Compliance

The FAA estimates that this AD, if adopted as proposed, would affect 1,650 airplanes of U.S. registry. The FAA estimates the following costs to comply with this proposed AD:

Estimated Costs for Required Actions
Labor cost | Parts cost | Cost per product | Cost on U.S. operators
14 work-hours × $85 per hour = $1,190 | $0 | $1,190 | $1,963,500

The FAA has received no definitive data on which to base the cost estimates for the on-condition actions specified in this proposed AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness (AD) 2021-25-14, Amendment 39-21858 (86 FR 72171, December 21, 2021); and

b. Adding the following new AD:

Airbus SAS: Docket No. FAA-2024-1702; Project Identifier MCAI-2024-00067-T.

(a) Comments Due Date

The FAA must receive comments on this airworthiness directive (AD) by March 31, 2025.

(b) Affected ADs

This AD replaces AD 2021-25-14, Amendment 39-21858 86 FR 72171, December 21, 2021 (AD 2021-25-14).

(c) Applicability

This AD applies to all Airbus SAS airplanes identified in paragraphs (c)(1) through (3) of this AD and certificated in any category.

(1) Model A319-111, -112, -113, -114, -115, -131, -132, -133, -151N, -153N, and -171N airplanes.

(2) Model A320-211, -212, -214, -216, -231, -232, -233, -251N, -252N, -253N, -271N, -272N, and -273N airplanes.

(3) Model A321-211, -212, -213, -231, -232, -251N, -251NX, -252N, -252NX, -253N, -253NX, -271N, -271NX, -272N, and -272NX airplanes.

(d) Subject

Air Transport Association (ATA) of America Code 57, Wings.

(e) Unsafe Condition

This AD was prompted by a determination that fatigue cracking may occur at the left-hand and right-hand wing manhole access panel attachment holes in the bottom wing skin panels 2, between rib 13 and rib 23, on airplanes with Sharklets or their structural reinforcements installed. This AD was also prompted by a determination that additional airplanes are subject to the unsafe condition, and that certain structural repair manual (SRM) tasks should not be used to accomplish repairs. The FAA is issuing this AD to address fatigue cracking that may occur in affected areas on airplanes having Sharklets installed during production or in service. The unsafe condition, if not addressed, could result in crack initiation and propagation, possibly resulting in reduced structural integrity of the wings.

(f) Compliance

Comply with this AD within the compliance times specified, unless already done.

(g) Requirements

Except as specified in paragraphs (h) and (i) of this AD: Comply with all required actions and compliance times specified in, and in accordance with, EASA AD 2024-0230, dated December 2, 2024 (EASA AD 2024-0230).

(h) Exceptions to EASA AD 2024-0230

(1) Where EASA AD 2024-0230 refers to its effective date, this AD requires using the effective date of this AD.

(2) Where EASA AD 2024-0230 refers to February 8, 2024 (the effective date of EASA AD 2024-0027 dated January 25, 2024), this AD requires using the effective date of this AD.

(3) Where paragraph (2) of EASA AD 2024-0230 specifies “any finding is detected as defined in the [Alert Operators Transmission] AOT, before next flight, contact Airbus for approved repair instructions and, within the compliance time specified therein, accomplish those instructions accordingly,” this AD requires replacing that text with “any cracking is detected, the cracking must be repaired before further flight using a method approved by the Manager, AIR-520, Continued Operational Safety Branch, FAA; or EASA; or Airbus SAS's EASA Design Organization Approval (DOA). If approved by the DOA, the approval must include the DOA-authorized signature.”

(4) This AD does not adopt the requirements of paragraph (4) of EASA AD 2024-0230.

(5) This AD does not adopt the “Remarks” section of EASA AD 2024-0230.

(i) No Reporting Requirement

Although the material referenced in EASA AD 2024-0230 specifies to submit certain information to the manufacturer, this AD does not include that requirement.

(j) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the Manager, AIR-520, Continued Operational Safety Branch, FAA, send it to the attention of the person identified in paragraph (k) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or EASA; or Airbus SAS's EASA DOA. If approved by the DOA, the approval must include the DOA-authorized signature.

(3) Required for Compliance (RC): Except as required by paragraphs (i) and (j)(2) of this AD, if any material referenced in EASA AD 2024-0230 contains paragraphs that are labeled as RC, the instructions in RC paragraphs, including subparagraphs under an RC paragraph, must be done to comply with this AD; any paragraphs, including subparagraphs under those paragraphs, that are not identified as RC are recommended. The instructions in paragraphs, including subparagraphs under those paragraphs, not identified as RC may be deviated from using accepted methods in accordance with the operator's maintenance or inspection program without obtaining approval of an AMOC, provided the instructions identified as RC can be done and the airplane can be put back in an airworthy condition. Any substitutions or changes to instructions identified as RC require approval of an AMOC.

(k) Additional Information

For more information about this AD, contact Timothy Dowling, Aviation Safety Engineer, FAA, 2200 South 216th St., Des Moines, WA 98198; phone: 817-222-5102; email: Timothy.P.Dowling@faa.gov.

(l) Material Incorporated by Reference

(1) The Director of the Federal Register approved the incorporation by reference (IBR) of the material listed in this paragraph under 5 U.S.C. 552(a) and 1 CFR part 51.

(2) You must use this material as applicable to do the actions required by this AD, unless this AD specifies otherwise.

(i) European Union Aviation Safety Agency (EASA) AD 2024-0230, dated December 2, 2024.

(ii) [Reserved]

(3) For the EASA material identified in this AD, contact EASA, Konrad-Adenauer-Ufer 3, 50668 Cologne, Germany; telephone +49 221 8999 000; email ADs@easa.europa.eu; website easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations, or email fr.inspection@nara.gov.

Issued on February 7, 2025.
John P. Piccola, Jr.,
Director, Integrated Certificate Management Division, Aircraft Certification Service.

[FR Doc. 2025-02572 Filed 2-12-25; 8:45 am]

BILLING CODE 4910-13-P